DEPARTMENT OF HEALTH AND HUMAN SERVICES

Health Resources and Services Administration

Health Center Program

AGENCY: Health Resources and Services Administration (HRSA), Department of Health and Human Services.

ACTION: Notice of supplemental awards.

SUMMARY: HRSA provided supplemental funding to existing State and Regional Primary Care Association Cooperative Agreements (PCAs) to support enhanced statewide HIV prevention efforts among health centers in the seven states that have substantial rural HIV burden: Alabama, Arkansas, Kentucky, Mississippi, Missouri, Oklahoma, and South Carolina (see Table 1).

FOR FURTHER INFORMATION CONTACT: Tracey Orloff, Strategic Partnerships Division Director in the Office of Quality Improvement, at (301) 443-3197 or TOrloff@hrsa.gov.

SUPPLEMENTARY INFORMATION:

Recipients of the Award: Seven award recipients, as listed in Table 1.

Amount of Non-Competitive Awards: $333,669 (with the option for $1,001,000 in additional fiscal year (FY) 2020 awards).

Period of Supplemental Funding: Initial funding is available for use March 1, 2020, through June 30, 2020, with additional funding in FY 2020 contingent on receipt of a cooperative agreement award under the FY 2020 PCA notice of funding opportunity (HRSA-20-021).

CFDA Number: 93.129.

Justification: The award recipients will use this funding to strengthen and build on current training and technical assistance activities in support of health centers' HIV prevention efforts. The funding will support efforts to (1) increase health center capacity to engage patients in HIV prevention and linkage to care services using evidence-based strategies; (2) expand availability and support for the use of pre-exposure prophylaxis (PrEP) in health centers, including supporting health centers with accessing PrEP donation programs; (3) develop new and strengthened partnerships with key organizations to educate primary care physicians and health center staff in providing the full range of culturally competent and evidence-based HIV prevention services, with a focus on PrEP; and (4) enhance health center capacity to increase awareness of and reduce social stigma that persists as a barrier to care for those living with, or who are at risk for, HIV in the communities served.

Table 1—Award Recipients
Grant No. | Name
U58CS06865 | Alabama Primary Health Care Association, Inc.
U58CS06851 | Community Health Centers of Arkansas.
U58CS06811 | Kentucky Primary Care Association, Inc.
U58CS06839 | Mississippi Primary Health Care Association, Inc.
U58CS06814 | Missouri Coalition for Primary Health Care.
U58CS06840 | Oklahoma Community Health Center, Inc.
U58CS06828 | South Carolina Primary Health Care Association.

(Authority: Public Health Service Act, Section 330(l) (42 U.S.C. 254b(l)))

Thomas J. Engels,
Administrator.

[FR Doc. 2020-07566 Filed 4-9-20; 8:45 am]

BILLING CODE 4165-15-P